DEPARTMENT OF HOUSING AND URBAN DEVELOPMENT

[Docket No. FR-6340-D-01]

Delegation of Authority to the Principal Deputy Assistant Secretary for the Office of Policy Development and Research and General Deputy Assistant Secretary for the Office of Policy Development and Research

AGENCY: Office of the Deputy Secretary, Housing and Urban Development (HUD).

ACTION: Notice of delegation of authority.

SUMMARY: Through this notice, the Deputy Secretary of the Department of Housing and Urban Development delegates to the Principal Deputy Assistant Secretary for Policy Development and Research and the General Deputy Assistant Secretary for Policy Development and Research all authority delegated to the Assistant Secretary for Policy Development and Research by the Secretary in the Delegation of Authority for the Office of Policy Development and Research published on August 30, 2011, with the exception of the authority to issue and waive regulations.

DATES: Delegation authority effective August 4, 2022.

FOR FURTHER INFORMATION CONTACT: Todd M. Richardson, General Deputy Assistant Secretary, Office of Policy Development and Research, Department of Housing and Urban Development, 451 7th Street SW, Room 8100; Washington, DC 20410-6000 or telephone number 202-402-5706 (this is not a toll-free number). Persons with hearing or speech impairments may access this number through TTY by calling the Federal Relay Service at 1-800-877-8339 (this is a toll-free number).

SUPPLEMENTARY INFORMATION: On August 30, 2011 (76 FR 53934), the Secretary delegated authority over the Department's research agenda to the Assistant Secretary for Policy Development and Research in the Delegation of Authority for the Office of Policy Development and Research. Through the notice published in this issue of the Federal Register, the Deputy Secretary hereby delegates to the Principal Deputy Assistant Secretary for Policy Development and Research and the General Deputy Assistant Secretary for Policy Development and Research all authority delegated to the Assistant Secretary for Policy Development and Research on August 30, 2011 (76 FR 53934), with the exception of the authority to issue and waive regulations.

Accordingly, the Deputy Secretary delegates as follows:

Section A. Authority Delegated

The Deputy Secretary of HUD delegates concurrently to the Principal Deputy Assistant Secretary for Policy Development and Research and the General Deputy Assistant Secretary for Policy Development and Research all authority and powers delegated to the Assistant Secretary for Policy Development and Research as published in Section A of the Delegation of Authority for the Office of Policy Development and Research published in the Federal Register on August 30, 2011 (76 FR 53934), with the exception of the authority to issue and waive regulations. This includes the authority and responsibility over the Department's research agenda. In carrying out these responsibilities, the Principal Deputy Assistant Secretary for Policy Development and Research and the General Deputy Assistant Secretary for Policy Development and Research shall, among other duties:

1. Undertake programs of research, study, testing, and demonstration relating to the mission and programs of the Department under Title V of the Housing and Urban Development Act of 1970 (12 U.S.C. 1701z-1).

2. Administer programs related to policy development and research as assigned by the Secretary, including the following programs:

a. The Community Development Work Study Program, under section 107(c) of Title I of the Housing and Community Development Act of 1974 (42 U.S.C. 5307(c));

b. The Community Outreach Partnership Center Program, within the Community Outreach Partnership Act of 1992 (42 U.S.C. 5307 note), and section 107 of the Housing Development Act of 1974 (42 U.S.C. 5307(b)(3));

c. The Historically Black Colleges and Universities Program, under section 107(b)(3) of the Housing and Community Development Act of 1974 (42 U.S.C. 5307(b)(3));

d. The Hispanic-Serving Institutions Assisting Communities Program, as provided for in annual HUD appropriations acts (e.g., Pub. L. 111-117, 123 Stat. 3034, approved December 16, 2009);

e. The Alaska Native/Native Hawaiian Institutions Assisting Communities program as provided for in annual HUD appropriations acts (e.g., Pub. L. 111-117, 123 Stat. 3034, approved December 16, 2009);

f. The Tribal Colleges and Universities program, as provided for in annual appropriations acts (e.g., Pub. L. 111-117, 123 Stat. 3034, approved December 16, 2009);

g. The Doctoral Dissertation Research Grant Program, as provided for in annual HUD appropriations acts (e.g., Pub. L. 111-117, 123 Stat. 3034, approved December 16, 2009); and

h. The Emergency Homeowners' Loan Program within the Emergency Homeowners' Relief Act, as amended (12 U.S.C. 2701 et seq.), in cooperation with HUD's Office of Housing and Office of the Chief Financial Officer.

3. Execute concurrent authority to carry out the duties and responsibilities authorized to the Secretary of HUD by Section 42(d)(5)(C) of the Internal Revenue Code.

Section B. Authority Excepted

The authority delegated in this Notice does not include the authority to issue and waive regulations.

Section C. Authority To Redelegate

The Principal Deputy Assistant Secretary for Policy Development and Research and the General Deputy Assistant Secretary for Policy Development and Research are authorized to redelegate to employees of HUD any of the authority delegated to them in this notice, with the exception of the authority to issue and waive regulations.

Section D. Authority Superseded

This delegation supersedes all previous redelegations to the Principal Deputy Assistant Secretary for Policy Development and Research and the General Deputy Assistant Secretary for Policy Development and Research, including the Redelegation of Authority for the Office of Policy Development and Research published on May 18, 2012 (77 FR 29848).

Authority: Section 7(d) of the Department of Housing and Urban Development Act (42 U.S.C. 3535(d)).

Adrianne Todman,
Deputy Secretary.

[FR Doc. 2022-17139 Filed 8-12-22; 8:45 am]

BILLING CODE 4210-67-P